DEPARTMENT OF HOUSING AND URBAN DEVELOPMENT

[Docket No. FR-5074-N-03]

Notice of Regulatory Waiver Requests Granted for the Third Quarter of Calendar Year 2006

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2006, and ending on September 30, 2006.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing-or speech-impairments may access this number through TTY by calling the toll-free Federal Information Relay Service at (800) 877-8339.

For information concerning a particular waiver that was granted and for which public notice is provided in this document, contact the person whose name and address follow the description of the waiver granted in the accompanying list of waivers that have been granted in the third quarter of calendar year 2006.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2006, through September 30, 2006. For ease of reference, the waivers granted by HUD are listed by HUD program office (for example, the Office of Community Panning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2006) before the next report is published (the fourth quarter of calendar year 2006), HUD will include any additional waivers granted for the third quarter in the next report.

Accordingly, information about approved waiver requests pertaining to HUD regulations is provided in the Appendix that follows this notice.

Dated: December 14, 2006.
Robert M. Couch,
Acting General Counsel.

Appendix—Listing of Waivers of Regulatory Requirements Granted by Offices of the Department of Housing and Urban Development July 1, 2006, Through September 30, 2006

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 42.350, 24 CFR 42.375, 42 U.S.C. 5304(d)(2) and (d)(3).

Project/Activity: A waiver was provided to the State of Texas for the purpose of assisting in the recovery in the most impacted and distressed areas related to the consequences of Hurricane Rita in 2005.

Nature of Requirement: The statute and regulations mandate a one-for-one replacement of low- and moderate-income housing units demolished or converted using CDBG funds requirement for housing units damaged by one or more disasters.

Granted By: Pamela H. Patenaude, Assistant Secretary for Community Planning and Development.

Date Granted: July 24, 2006.

Reason Waived: HUD waived this requirement because it does not take into account the large, sudden changes the effects of Hurricanes Katrina and Wilma had on the local housing stock, population, infrastructure, and local economies. Further, the requirement does not take into account the threats to public health and safety and to economic revitalization that may be caused by the presence of disaster-damaged structures that are unsuitable for rehabilitation.

Contact: Mr. Jan C. Opper, Director, Disaster Recovery and Special Issues Division, Office of Block Grant Assistance, Office of Community Planning and Development, Department of Housing and Urban Development, 451 Seventh Street, SW., Room 7286 Washington, DC 20410-7000, telephone: 202-708-3587.

• Regulation: 24 CFR 42.375, 24 CFR 42.350, 42 U.S.C. 5304(d)(2) and (d)(3).

Project/Activity: A waiver was provided to the State of Florida for the purpose of assisting in the recovery in the most impacted and distressed areas related to the consequences of Hurricanes Katrina and Wilma in 2005.

Nature of Requirement: The statute and regulations mandates a one-for-one replacement of low- and moderate-income housing units demolished or converted using CDBG funds requirement for housing units damaged by one or more disasters.

Granted By: Pamela H. Patenaude, Assistant Secretary for Community Planning and Development.

Date Granted: August 23, 2006.

Reason Waived: HUD waived this requirement because it does not take into account the large, sudden changes the effects of Hurricanes Katrina and Wilma had on the local housing stock, population, infrastructure, and local economies. Further, the requirement does not take into account the threats to public health and safety and to economic revitalization that may be caused by the presence of disaster-damaged structures that are unsuitable for rehabilitation.

Contact: Mr. Jan C. Opper, Director, Disaster Recovery and Special Issues Division, Office of Block Grant Assistance, Office of Community Planning and Development, Department of Housing and Urban Development, 451 Seventh Street, SW., Room 7286 Washington, DC 20410-7000, telephone: 202-708-3587.

• Regulations: 24 CFR 92.254(a)(7).

Project/Activity: The Auburn Consortium in Maine requested a waiver of 24 CFR 92.254(a)(7) to extend the lease-purchase period an additional 12 months, from 36 months to 48 months, to enable a low-income family experiencing hardship to purchase their home. Due to the unexpected illness and subsequent hospitalization of the family's son, the family's credit standing deteriorated over the past two years. After evaluating the family's income and expenses, and creating a financial plan, the City of Auburn believed the family would clear its credit and complete the purchase within 12 months.

Nature of Requirement: Section 92.254(a)(7) of HUD's regulations (24 CFR 92.254(a)(7)) requires a homebuyer to purchase a HOME-assisted unit within 36 months of signing the lease-purchase agreement.

Granted By: Pamela H. Patenaude, Assistant Secretary for Community Planning and Development.

Date Granted: August 7, 2006.

Reasons Waived: This waiver was granted to preserve affordable housing in Maine and will enable this family to rebuild their credit and ultimately purchase their home.

Contact: Virginia Sardone, Office of Affordable Housing Programs, Office of Community Planning and Development, Department of Housing and Urban Development, 451 Seventh Street, SW., Room 7158, Washington, DC 20410-7000, telephone 202-708-2470.

• Regulation: 24 CFR 92.500(d)(1)(B).

Project/Activity: The City of Lake Charles, LA requested a waiver to facilitate its recovery from the devastation caused by Hurricanes Katrina and Rita. The City is located within a declared disaster area pursuant to Title IV of the Robert T. Stafford Disaster Relief and Emergency Assistance Act. The City requested this waiver in addition to the waivers granted by HUD on September 14, 2005 (in response to Hurricane Katrina) and October 4, 2005 (in response to Hurricane Rita) for the designated disaster areas. Corresponding requirements in the Cranston-Gonzalez National Affordable Housing Act (the Act) were suspended pursuant to Section 290 of the Act.

Nature of Requirement: Section 92.500(d)(1)(B) of HUD's regulations (24 CFR 92.500(d)(1)(B)) requires that a participating jurisdiction commit its annual allocation of HOME funds within 24 months after HUD notifies the participating jurisdiction that HUD has executed the jurisdiction's HOME Investment Partnership Agreement.

Granted By: Pamela H. Patenaude, Assistant Secretary for Community Planning and Development.

Date Granted: August 15, 2006.

Reasons Waived: This waiver was granted to facilitate the recovery of the City of Lake Charles from the devastation caused by Hurricane Katrina and Hurricane Rita by waiving the FY 2004 HOME commitment requirement. This waiver is intended to ensure that needed HOME funds are not de-obligated and that the City has sufficient time to assess and redesign its housing programs and delivery systems.

Contact: Virginia Sardone, Office of Affordable Housing Programs, Office of Community Planning and Development, Department of Housing and Urban Development, 451 Seventh Street, SW., Room 7158, Washington, DC 20410-7000, telephone 202-708-2470.

• Regulation: 24 CFR 92.500(d)(1)(C).

Project/Activity: The Municipality of Ponce, PR requested a waiver of the five-year FY 2001 expenditure deadline from August 31, 2006, to December 31, 2006. The municipality had unexpected delays in the construction of a 16 unit homeownership project. The project was redesigned and will be completed by December 31, 2006.

Nature of Requirement: Section 92.500(d)(1)(C) of HUD's regulations (24 CFR 92.500(d)(1)(C) requires that a participating jurisdiction expend its annual allocation of HOME funds within five years after HUD notifies the participating jurisdiction that it has executed its HOME Investment Partnership Agreement.

Granted By: Pamela H. Patenaude, Assistant Secretary for Community Planning and Development.

Date Granted: September 14, 2006.

Reasons Waived: This waiver was granted to enable more low-income families to be served. This waiver is a one-time extension.

Contact: Virginia Sardone, Office of Affordable Housing Programs, Office of Community Planning and Development, Department of Housing and Urban Development, 451 Seventh Street, SW., Room 7158, Washington, DC 20410-7000, telephone 202-708-2470.

• Regulation: 24 CFR 92.500(d)(1)(B) and 24 CFR 92.500(d)(1)(C).

Project/Activity: The State of Louisiana, through the Louisiana Housing Finance Agency, requested waivers to facilitate the State's recovery from the devastation caused by Hurricanes Katrina and Rita. The State is located within a declared disaster area pursuant to Title IV of the Robert T. Stafford Disaster Relief and Emergency Assistance Act. The State requested these waivers in addition to the waivers granted by HUD on September 14, 2005 (in response to Hurricane Katrina) and October 4, 2005 (in response to Hurricane Rita) for the designated disaster areas. Corresponding requirements in the Cranston-Gonzalez National Affordable Housing Act (the Act) were suspended pursuant to section 290 of the Act.

Nature of Requirement: Section 92.500(d)(1)(B) of HUD's regulations (24 CFR 92.500(d)(1)(B)) requires that a participating jurisdiction commit its annual allocation of HOME funds within 24 months after HUD notifies the participating jurisdiction that HUD has executed its HOME Investment Partnership Agreement. Section 92.500(d)(1)(C) of HUD's regulations (24 CFR 92.500(d)(1)(c)) requires that a participating jurisdiction expend its annual allocation of HOME funds within five years after HUD notifies the participating jurisdiction that HUD has executed its HOME Investment Partnership Agreement.

Granted By: Pamela H. Patenaude, Assistant Secretary for Community Planning and Development.

Date Granted: July 19, 2006.

Reasons Waived: These waivers were granted to facilitate the recovery of the State of Louisiana from the devastation caused by Hurricane Katrina and Hurricane Rita by extending the FY2005 HOME commitment requirement and the FY 2002 HOME expenditure requirement by one year. These waivers are intended to ensure that needed HOME funds are not de-obligated, and that the State has sufficient flexibility and time to assess, redesign, and implement its housing programs and delivery systems.

Contact: Virginia Sardone, Office of Affordable Housing Programs, Office of Community Planning and Development, Department of Housing and Urban Development, 451 Seventh Street, SW., Room 7158, Washington, DC 20410-7000, telephone 202-708-2470.

• Regulation: 24 CFR 570.208(a)(3).

Project/Activity: The City of Victoria, Texas is creating a mixed-income, new construction housing development known as Swan Crossing.

Nature of Requirement: This regulation generally requires that 51 percent of the CDBG-assisted units in a multi-unit residential structure and 100 percent of assisted single-unit residential structures be occupied by low- and moderate-income households in order for the activity to meet the national objective.

Granted By: Pamela H. Patenaude, Assistant Secretary for Community Planning and Development.

Date Granted: July 26, 2006.

Reason Waived: It was determined that the project would further the statutory purposes of the CDBG program to expand the nation's affordable housing stock and reduce the isolation of income groups within communities and geographical areas. The single-family, owner-occupied housing units at Swan Crossing were considered a single structure for the purposes of determining compliance with the national objective.

Contact: Stanley Gimont, Director Entitlement Communites Division, Office of Block Grant Assistance, Office of Community Planning and Development, Department of Housing and Urban Development, 451 Seventh Street, SW., Room 7286 Washington, DC 20410-7000, telephone: 202-708-1577.

• Regulation: 24 CFR 570.208(a)(3).

Project/Activity: Washington County Minnesota is creating a mixed-income, new construction housing development known as Red Oak Preserve.

Nature of Requirement: The regulation generally requires that 51 percent of the CDBG-assisted units in a multi-unit residential structure and 100 percent of assisted single-unit residential structures be occupied by low- and moderate-income households in order for the activity to meet the national objective.

Granted By: Pamela H. Patenaude, Assistant Secretary for Community Planning and Development.

Date Granted: July 28, 2006.

Reason Waived: It was determined that the project will further the statutory purposes of the CDBG program to expand the nation's affordable housing stock and reduce the isolation of income groups within communities and geographical areas. The mixed income housing units at Red Oak Preserve were considered a single structure for the purposes of determining compliance with the national objective.

Contact: Otis Collins, Entitlement Communities Division, Office of Block Grant Assistance, Office of Community Planning and Development, Department of Housing and Urban Development, 451 Seventh Street, SW., Room 7282, Washington, DC 20410-7000, telephone: 202-708-1577.

• Regulation: 24 CFR 570.482 and 42 U.S.C. 5305(h).

Project/Activity: A waiver was provided to the State of Florida for the purpose of assisting in the recovery in the most impacted and distressed areas related to the consequences of Hurricanes Katrina and Wilma in 2005.

Nature of Requirement: The statue and regulation prohibit the use of assistance for employment relocation activities. Specifically, funds may not be used to relocate businesses if there will be a significant loss of employment in the labor market area

Granted By: Pamela H. Patenaude, Assistant Secretary for Community Planning and Development.

Date Granted: August 23, 2006.

Reason Waived: The waiver was granted to allow the flexibility to provide assistance to a business located in another state or market area within the same state if the business was displaced from a declared area within the state by the disaster and the business wishes to return. This waiver was determined necessary to allow the impacted communities to rebuild their employment bases.

Contact: Mr. Jan C. Opper, Director, Disaster Recovery and Special Issues Division, Office of Block Grant Assistance, Office of Community Planning and Development, Department of Housing and Urban Development, 451 Seventh Street, SW., Room 7286, Washington, DC 20410-7000, telephone: 202-708-3587.

• Regulations: 24 CFR 570.482 and 42 U.S.C. 5305(h).

Project/Activity: A waiver provided to the State of Texas for the purpose of assisting in the recovery in the most impacted and distressed areas related to the consequences of Hurricane Rita in 2005.

Nature of Requirement: The statue and regulation prohibit the use of assistance for employment relocation activities. Specifically, funds may not be used to relocate businesses if there will be a significant loss of employment in the Labor Market Area.

Granted By: Pamela H. Patenaude, Assistant Secretary for Community Planning and Development.

Date Granted: July 24, 2006

Reason Waived: The waiver was granted to allow the flexibility to provide assistance to a business located in another state or market area within the same state if the business was displaced from a declared area within the state by the disaster and the business wishes to return. This waiver was determined necessary to allow the impacted communities to rebuild their employment bases.

Contact: Mr. Jan C. Opper, Director, Disaster Recovery and Special Issues Division, Office of Block Grant Assistance, Office of Community Planning and Development, Department of Housing and Urban Development, 451 Seventh Street, SW., Room 7286, Washington, DC 20410, telephone: 202-708-3587.

• Regulation: 24 CFR 570.483(b)(5) and (c)(3).

Project/Activity: A waiver was provided to the State of Texas for the purpose of assisting in the recovery in the most impacted and distressed areas related to the consequences of Hurricane Rita in 2005.

Nature of Requirement: The annual State CDBG program requires through 24 CFR 570.483(b)(5) and (c)(3) that local government grant recipients for planning-only grants must document that the use of funds meets a national objective.

Granted By: Pamela H. Patenaude, Assistant Secretary for Community Planning and Development.

Date Granted: July 24, 2006.

Reason Waived: Almost all effective CDBG disaster recoveries in the past have relied on some form of area-wide or comprehensive planning activity to guide overall redevelopment independent of the ultimate source of implementation funds. A waiver was granted because it was determined that there is no need to duplicate planning efforts to comply with the current regulations.

Contact: Mr. Jan C. Opper, Director, Disaster Recovery and Special Issues Division, Office of Block Grant Assistance, Office of Community Planning and Development, Department of Housing and Urban Development, 451 Seventh Street, SW., Room 7286 Washington, DC 20410-7000, telephone: 202-708-3587.

• Regulation: 24 CFR 570.483(b)(5) and (c)(3).

Project/Activity: A waiver was provided to the State of Florida for the purpose of assisting in the recovery in the most impacted and distressed areas related to the consequences of Hurricanes Katrina and Wilma in 2005.

Nature of Requirement: The annual State CDBG program requires through 24 CFR 570.483(b)(5) and (c)(3) that local government grant recipients for planning-only grants must document that the use of funds meets a national objective.

Granted By: Pamela H. Patenaude, Assistant Secretary for Community Planning and Development.

Date Granted: August 23, 2006.

Reason Waived: Almost all effective CDBG disaster recoveries in the past have relied on some form of area-wide or comprehensive planning activity to guide overall redevelopment independent of the ultimate source of implementation funds. A waiver was granted because it was determined that there is no need to duplicate planning efforts to comply with the current regulations.

Contact: Mr. Jan C. Opper, Director, Disaster Recovery and Special Issues Division, Office of Block Grant Assistance, Office of Community Planning and Development, Department of Housing and Urban Development, 451 Seventh Street, SW., Room 7286, Washington, DC 20410-7000, telephone: 202-708-3587.

• Regulation: 24 CFR 570.489(e) and 42 U.S.C. 5304(j).

Project/Activity: A waiver was provided to the State of Texas for the purpose of assisting in the recovery in the most impacted and distressed areas related to the consequences of Hurricane Rita in 2005.

Nature of Requirement: The current statutes and regulations specifically provides for a local government receiving Community Development Block Grant (CDBG) grants from a state to retain program income if it uses the funds for additional eligible activities under the annual CDBG program. The current statutes and regulations allow the state to require return of the program income to the state under certain circumstances.

Granted By: Pamela H. Patenaude, Assistant Secretary for Community Planning and Development.

Date Granted: July 24, 2006.

Reason Waived: This action waived the existing statute and regulations to give the state, in all circumstances, the choice of whether a local government receiving a distribution of CDBG disaster recovery funds and using program income for activities in the Action Plan may retain this income and use it for additional disaster recovery activities. In addition, this action allowed program income to the disaster grant generated by activities undertaken directly by the state or its agent(s) to retain the original disaster recovery grant's alternative requirements and waivers and to remain under the state's discretion until grant closeout, at which point any program income on hand or received subsequently would become program income to the state's annual CDBG program.

Contact: Mr. Jan C. Opper, Director, Disaster Recovery and Special Issues Division, Office of Block Grant Assistance, Office of Community Planning and Development, Department of Housing and Urban Development, 451 Seventh Street, SW., Room 7286, Washington, DC 20410-7000, telephone: 202-708-3587.

• Regulation: 24 CFR 570.489(e) and 42 U.S.C. 5304(j).

Project/Activity: A waiver was provided to the State of Florida for the purpose of assisting in the recovery in the most impacted and distressed areas related to the consequences of Hurricanes Katrina and Wilma in 2005.

Nature of Requirement: The current statutes and regulations specifically provides for a local government receiving CDBG grants from a state to retain program income if it uses the funds for additional eligible activities under the annual CDBG program. The current statutes and regulations allow the state to require return of the program income to the state under certain circumstances.

Granted By: Pamela H. Patenaude, Assistant Secretary for Community Planning and Development.

Date Granted: August 23, 2006.

Reason Waived: This action waived the existing statute and regulations to give the state, in all circumstances, the choice of whether a local government receiving a distribution of CDBG disaster recovery funds and using program income for activities in the Action Plan may retain this income and use it for additional disaster recovery activities. In addition, this action allowed program income to the disaster grant generated by activities undertaken directly by the state or its agent(s) to retain the original disaster recovery grant's alternative requirements and waivers and to remain under the state's discretion until grant closeout, at which point any program income on hand or received subsequently would become program income to the state's annual CDBG program.

Contact: Mr. Jan C. Opper, Director, Disaster Recovery and Special Issues Division, Office of Block Grant Assistance, Office of Community Planning and Development, Department of Housing and Urban Development, 451 Seventh Street, SW., Room 7286, Washington, DC 20410-7000, telephone: 202-708-3587.

• Regulation: 24 CFR 570.494.

Project/Activity: A waiver was provided to the State of Texas for the purpose of assisting in the recovery in the most impacted and distressed areas related to the consequences of Hurricane Rita in 2005.

Nature of Requirement: This regulation requires the timely distribution of assistance funds.

Granted By: Pamela H. Patenaude, Assistant Secretary for Community Planning and Development.

Date Granted: July 24, 2006.

Reason Waived: This regulation is designed to work in the context of an annual program in which almost all grant funds are distributed to units of general local government. Because the state may use disaster recovery grant funds to carry out activities directly, and because Congress expressly allowed this grant to be available until expended, HUD waived this requirement.

Contact: Mr. Jan C. Opper, Director, Disaster Recovery and Special Issues Division, Office of Block Grant Assistance, Office of Community Planning and Development, Department of Housing and Urban Development, 451 Seventh Street, SW., Room 7286, Washington, DC 20410-7000, telephone: 202-708-3587.

• Regulation: 24 CFR 570.494.

Project/Activity: A waiver was provided to the State of Florida for the purpose of assisting in the recovery in the most impacted and distressed areas related to the consequences of Hurricanes Katrina and Wilma in 2005.

Nature of Requirement: This regulation requires the timely distribution of assistance funds.

Granted By: Pamela H. Patenaude, Assistant Secretary for Community Planning and Development.

Date Granted: August 23, 2006.

Reason Waived: This regulation is designed to work in the context of an annual program in which almost all grant funds are distributed to units of general local government. Because the state may use disaster recovery grant funds to carry out activities directly, and because Congress expressly allowed this grant to be available until expended, HUD waived this requirement.

Contact: Mr. Jan C. Opper, Director, Disaster Recovery and Special Issues Division, Office of Block Grant Assistance, Department of Housing and Urban Development, 451 Seventh Street, SW., Room 7286, Washington, DC 20410-7000, telephone: 202-708-3587.

II. Regulatory Waivers Granted by the Office of Housing—Federal Housing Administration (FHA)

For further information about the following regulatory waivers, please see the name of the contact person that immediately follows the description of the waiver granted.

• Regulation: 24 CFR 200.926d(f)(1)(i) and (2)(i).

Project/Activity: This waiver was granted to permit insurance of mortgages secured by new single family construction that rely upon hauled water, cisterns and other alternative water supply systems, and which are located in the following boroughs of Alaska: Juneau, Mantanuska-Susitna, Anchorage, Bethel, North Slope (Barrow), Fairbanks (North Star and Southeast) and the Kenai Peninsula.

Nature of Requirement: HUD's regulations at 24 CFR 200.926d(f)(1)(i) and (2)(i), provide that to be eligible for FHA-insured mortgages, each living unit with new construction single family housing should be capable of delivering a flow of 5 gallons per minute (gpm) over a 4 hour period in order to provide a continuing and sufficient supply of safe drinking water under adequate pressure and appropriate quality for household use.

Granted By: Brian D. Montgomery, Assistant Secretary for Housing—Federal Housing Commissioner.

Date Granted: August 8, 2006.

Reason Waived: In certain areas of Alaska, conventional water supply systems, such as those required under FHA's Minimum Property Standards (as described above), are not feasible as water sources due to the unique geographical characteristics present there.

Contact: Margaret Burns, Director, Office of Single Family Program, Office of Housing, Department of Housing and Urban Development, 451 Seventh Street, SW., Washington, DC 20410-8000, telephone (202) 708-2121.

• Regulation: 24 CFR 203.4(b)(1) and (2).

Project/Activity: The counties and parishes designated as Presidentially-declared disaster areas because of Hurricane Katrina. Alabama—Baldwin, Choctaw, Clark, Mobile, Pickens, Greene, Hale, Marengo, Sumter, Tuscaloosa, and Washington counties. Louisiana—Acadia, Ascension, Assumption, Calcasieu, Cameron, East Baton Rouge, East Feliciana, Iberia, Iberville, Jefferson, Jefferson Davis, Lafayette, Lafourche, Orleans, Pointe Coupee, Plaquermines, St. Bernard, St. Charles, St. Helena, St. James, St. John, St. Mary, St. Martin, St. Tammany, Tangipahoa, Terrebonne, Vermillion, Washington, West Baton Rouge, and West Feliciana parishes. Mississippi—Adams, Amite, Attala, Claiborne, Choctaw, Clarke, Copiah, Covington, Forest, Franklin, George, Greene, Hancock, Harrison, Hinds, Jackson, Jasper, Jefferson, Jefferson Davis, Jones, Kemper, Lamar, Lauderdale, Lawrence, Leake, Lincoln, Lowndes, Madison, Marion, Neshoba, Newton, Noxubee, Oktibbeha, Pearl River, Perry, Pike, Rankin, Scott, Simpson, Smith, Stone, Wathall, Warren, Wayne, Wilkinson, Winston, and Yazoo counties.

Nature of Requirement: Lender insurance is authorized under section 256 of the National Housing Act, and delegates the insurance endorsement of mortgages to FHA-approved Direct Endorsement mortgagees who meet certain criteria. The regulations at 24 CFR 203.4(b)(1) provide that a mortgagee is eligible for the FHA Lender Insurance Program if its default and claim rate is at or below 150% of the national average for all insured loans. The regulations at 24 CFR 203.4(b)(2) provide that a mortgagee that operates in a single state may choose to have its default and claim rate compared with the average rate in the particular state in which it operates. In such cases, a mortgagee is eligible for the Lender Insurance Program if the default and claim rate is at or below 150% of the state rate for insured mortgages.

Granted By: Brian D. Montgomery, Assistant Secretary for Housing—Federal Housing Commissioner.

Date Granted: July 17, 2006.

Reason Waived: The defaults and claims for recently originated FHA-insured mortgages that have occurred or will occur in the disaster areas were due generally to the destruction caused by Hurricane Katrina and not due to the origination performance on the part of FHA-approved mortgage loan originators. Without a waiver of the provisions setting the 150% threshold, mortgagees whose loan origination performance otherwise would have been acceptable but for the devastation caused by Hurricane Katrina, would be unable to be eligible to participate in the Lender Insurance Program.

Contact: Margaret Burns, Director, Office of Single Family Program, Office of Housing Development, Department of Housing and Urban Development, 451 Seventh Street, SW., Washington, DC 20410-8000, telephone (202) 708-2121.

• Regulation: 24 CFR 401.461.

Project/Activity: The following project requested a waiver to the simple interest required in 24 CFR 401.461 to allow for compound interest. Project Number: 800-018465 Grant Towers, Duquesne, PA.

Nature of Requirement: This debt restructuring involves 9% low income housing tax credits. The owners' tax experts advised that if simple interest is applied, the debt would be considered by the Internal Revenue Services (IRS) to be federally subsidized, which would result in the 9% credits being reduced to 4%. Therefore, to secure the 9% credits, the program regulation of simple interest was waived to allow compound interest at the applicable federal rate.

Granted By: Brian D. Montgomery, Assistant Secretary for Housing—Federal Housing Commissioner.

Date Granted: July 21, 2006.

Reason Waived: This regulatory provision is construed as a form of federal subsidy, thereby creating a loss of tax credit equity. The loss would adversely affect the ability to close the restructuring plan and would cause the loss or deterioration of the affordable housing project. Therefore, compound interest was determined necessary for the owner to obtain low income housing tax credits under favorable terms and in order to maximize the savings to the Federal Government.

Contact: Dennis Manning, Office of Affordable Housing Preservation, Office of Housing, Department of Housing and Urban Development, 451 Seventh Street, SW., Washington, DC 20410; telephone (202) 708-0001.

• Regulation: 24 CFR 811.108(a)(3).

Project/Activity: Warminster, Pennsylvania (Warminster Heights Apartments—FHA Project Number 034-35184.) The Philadelphia Multifamily Hub requested approval for use of excess bond reserve balances to help finance repairs, instead of rebating these funds to HUD, as required by regulation.

Nature of Requirement: HUD regulations at 24 CFR part 811 provide a basis for determining tax exemption of obligations issued by public housing agencies pursuant to Section 11(b) of the U.S. Housing Act of 1937 to refund bonds for Section 8 new construction or substantial rehabilitation projects. Section 811.108(a)(3) of the regulations requires that, upon full payment of the principal and interest on the obligations, any funds remaining in the debt service reserve shall be remitted to HUD.

Granted By: Frank L. Davis, General Deputy Assistant Secretary for Housing—Deputy Federal Housing Commissioner.

Date Granted: September 13, 2006.

Reason Waived: This waiver was granted based on the immediate need for physical repairs at Warminster Heights Apartments. The bonds were issued with HUD approval pursuant to 24 CFR part 811 to refund prior bonds which financed construction of Warminster Plaza Apartments. Based on the immediate need for repairs on these 100 units of Section 8 housing, it was determined that the remaining bond reserves should be used for capital improvements to preserve the physical integrity of Warminster Heights as an affordable housing resource.

Contact: Beverly J. Miller, Director, Office of Asset Management, Office of Housing Department of Housing and Urban Development, 451 Seventh Street, SW., Room 6160, Washington, DC 20410; telephone (202) 708-3730.

• Regulation: 24 CFR 811.108(a)(3).

Project/Activity: Kokomo, Indiana (Briarwick Apartments—FHA Project Number 073-35396.) The Indianapolis Multifamily Hub requested approval for use of excess bond reserve balances to help finance repairs, instead of rebating these funds to HUD, as required by regulation.

Nature of Requirement: HUD regulations in 24 CFR part 811 provide a basis for determining tax exemption of obligations issued by public housing agencies pursuant to Section 11(b) of the U.S. Housing Act of 1937 to refund bonds for Section 8 new construction or substantial rehabilitation projects. Section 811.108(a)(3) requires that, upon full payment of the principal and interest on the obligations, any funds remaining in the debt service reserve shall be remitted to HUD.

Granted By: Frank L. Davis, General Deputy Assistant Secretary for Housing—Deputy Federal Housing Commissioner.

Date Granted: September 13, 2006.

Reason Waived: This waiver was granted based on information concerning the urgent need for certain repairs to Briarwick Apartments. The bonds were issued with HUD approval pursuant to 24 CFR part 811 to refund prior bonds which financed construction of the project. Based on the immediate need for roofing and siding replacement, it was determined that the remaining bond reserves should be used for capital improvements to preserve the physical integrity of Briarwick Apartments as an affordable housing resource.

Contact: Beverly J. Miller, Director, Office of Asset Management, Office of Housing, Department of Housing and Urban Development, 451 Seventh Street, SW., Room 6160, Washington, DC 20410; telephone (202) 708-3730.

• Regulation: 24 CFR 891.100(d).

Project/Activity: Friendly Village Phase II, St. Louis, MO, Project Number: 085-EE084/MO36-S041-007.

Nature of Requirement: Section 891.100(d) prohibits amendment of the amount of the approved capital advance funds prior to initial closing.

Granted by: Brian D. Montgomery, Assistant Secretary for Housing—Federal Housing Commissioner.

Date Granted: July 6, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Second Baptist Senior Apartments, Homestead, PA, Project Number: 033-EE120/PA28-S041-002.

Nature of Requirement: Section 891.100(d) prohibits amendment of the amount of the approved capital advance funds prior to initial closing.

Granted by: Brian D. Montgomery, Assistant Secretary for Housing—Federal Housing Commissioner.

Date Granted: July 12, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Freedom House II, Spring City, PA, Project Number: 034-HD074/PA26-Q031-001.

Nature of Requirement: Section 891.100(d) prohibits amendment of the amount of the approved capital advance funds prior to initial closing.

Granted by: Brian D. Montgomery, Assistant Secretary for Housing—Federal Housing Commissioner.

Date Granted: July 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Dresden Drive Group Home, Newport News, VA, Project Number: 051-HD132/VA36-Q041-008.

Nature of Requirement: Section 891.100(d) prohibits amendment of the amount of the approved capital advance funds prior to initial closing.

Granted by: Brian D. Montgomery, Assistant Secretary for Housing—Federal Housing Commissioner.

Date Granted: July 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Goodman Lake Housing Corporation, Richland Center, WI, Project Number: 075-EE126/WI39-S031-006.

Nature of Requirement: Section 891.100(d) prohibits amendment of the amount of the approved capital advance funds prior to initial closing.

Granted by: Brian D. Montgomery, Assistant Secretary for Housing—Federal Housing Commissioner.

Date Granted: July 14, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Dunson School Apartments, LaGrange, GA, Project Number: 061-EE145/GA06-S041-016.

Nature of Requirement: Section 891.100(d) prohibits amendment of the amount of the approved capital advance funds prior to initial closing.

Granted by: Brian D. Montgomery, Assistant Secretary for Housing—Federal Housing Commissioner.

Date Granted: July 21, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Project Support Housing Corp II, Idaho Springs, CO, Project Number: 101-EE063/CO99-S041-003.

Nature of Requirement: Section 891.100(d) prohibits amendment of the amount of the approved capital advance funds prior to initial closing.

Granted by: Brian D. Montgomery, Assistant Secretary for Housing—Federal Housing Commissioner.

Date Granted: July 21, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Alloway Manor, Farmington, NY, Project Number:

014-EE236/NY06-S041-005.

Nature of Requirement: Section 891.100(d) prohibits amendment of the amount of the approved capital advance funds prior to initial closing.

Granted by: Brian D. Montgomery, Assistant Secretary for Housing—Federal Housing Commissioner.

Date Granted: July 24, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Villa De Reposo Carrizo Springs, Carrizo, TX, Project Number: 115-EE075/TX59-S041-004.

Nature of Requirement: Section 891.100(d) prohibits amendment of the amount of the approved capital advance funds prior to initial closing.

Granted by: Brian D. Montgomery, Assistant Secretary for Housing—Federal Housing Commissioner.

Date Granted: July 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Princess Anne Group Home, Virginia Beach, VA, Project Number: 051-HD131/VA36-Q041-007.

Nature of Requirement: Section 891.100(d) prohibits amendment of the amount of the approved capital advance funds prior to initial closing.

Granted by: Brian D. Montgomery, Assistant Secretary for Housing—Federal Housing Commissioner.

Date Granted: July 27, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Southwood Village, Cuthbert, GA, Project Number:

061-EE136/GA06-S041-007.

Nature of Requirement: Section 891.100(d) prohibits amendment of the amount of the approved capital advance funds prior to initial closing.

Granted by: Brian D. Montgomery, Assistant Secretary for Housing—Federal Housing Commissioner.

Date Granted: July 31, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Haven House at St. John, North Cape May, NJ, Project Number: 035-EE049/NJ39-S041-003.

Nature of Requirement: Section 891.100(d) prohibits amendment of the amount of the approved capital advance funds prior to initial closing.

Granted by: Brian D. Montgomery, Assistant Secretary for Housing—Federal Housing Commissioner.

Date Granted: August 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Heritage Place, Phase III, Coeur d'Alene, ID, Project Number:

124-EE022/ID16-S041-001.

Nature of Requirement: Section 891.100(d) prohibits amendment of the amount of the approved capital advance funds prior to initial closing.

Granted by: Brian D. Montgomery, Assistant Secretary for Housing—Federal Housing Commissioner.

Date Granted: August 2, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Caring Residential Services II, Pleasantville, NJ, Project Number: 035-EE046/NJ39-S031-002.

Nature of Requirement: Section 891.100(d) prohibits amendment of the amount of the approved capital advance funds prior to initial closing.

Granted by: Brian D. Montgomery, Assistant Secretary for Housing—Federal Housing Commissioner.

Date Granted: August 3, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW, Washington, DC 20410-8000, telephone (202) 708-3000.

• Regulation: 24 CFR 891.100(d).

Project/Activity: Waycross II VOA Housing, Waycross, GA, Project Number: 061-HD087/GA06-Q031-003.

Nature of Requirement: Section 891.100(d) prohibits amendment of the amount of the approved capital advance funds prior to initial closing.

Granted by: Brian D. Montgomery, Assistant Secretary for Housing—Federal Housing Commissioner.

Date Granted: August 3, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Maison De Monde (Sunset Housing), Sunset, LA, Project Number: 064-HD089/LA48-Q041-004.

Nature of Requirement: Section 891.100(d) prohibits amendment of the amount of the approved capital advance funds prior to initial closing.

Granted by: Brian D. Montgomery, Assistant Secretary for Housing—Federal Housing Commissioner.

Date Granted: August 4, 2006.

Reason Waived: The project is economically designed and comparable in cost to similar projects in the area, and the sponsor/owner has exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Tuscumbia VOANA Housing, Inc., Tuscumbia, AL, Project Number: 062-HD056/AL09-Q041-002.

Nature of Requirement: Section 891.100(d) prohibits amendment of the amount of the approved capital advance funds prior to initial closing.

Granted by: Brian D. Montgomery, Assistant Secretary for Housing—Federal Housing Commissioner.

Date Granted: August 7, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Volunteers of America Selma, Selma, AL, Project Number: 062-EE065/AL09-S041-002.

Nature of Requirement: Section 891.100(d) prohibits amendment of the amount of the approved capital advance funds prior to initial closing.

Granted by: Brian D. Montgomery, Assistant Secretary for Housing—Federal Housing Commissioner.

Date Granted: August 10, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Options Supported Housing Project X, Farmingville, NY, Project Number: 012-HD127/NY36-Q051-001.

Nature of Requirement: Section 891.100(d) prohibits amendment of the amount of the approved capital advance funds prior to initial closing.

Granted by: Brian D. Montgomery, Assistant Secretary for Housing—Federal Housing Commissioner.

Date Granted: August 16, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Northwest Senior Housing of Winsted, Winsted, CT, Project Number: 017-EE088/CT26-S041-005.

Nature of Requirement: Section 891.100(d) prohibits amendment of the amount of the approved capital advance funds prior to initial closing.

Granted by: Brian D. Montgomery, Assistant Secretary for Housing—Federal Housing Commissioner.

Date Granted: August 16, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: AHEPA 296 Apartments, Pensacola, FL, Project Number: 063-EE032/FL29-S031-007.

Nature of Requirement: Section 891.100(d) prohibits amendment of the amount of the approved capital advance funds prior to initial closing.

Granted by: Brian D. Montgomery, Assistant Secretary for Housing—Federal Housing Commissioner.

Date Granted: August 21, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Camellia Manor, Oglethorpe, GA, Project Number: 061-EE131-GA06-S041-002.

Nature of Requirement: Section 891.100(d) prohibits amendment of the amount of the approved capital advance funds prior to initial closing.

Granted by: Brian D. Montgomery, Assistant Secretary for Housing—Federal Housing Commissioner.

Date Granted: August 22, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Willington Senior Housing, Willington, CT, Project Number: 017-EE087/CT26-S041-004.

Nature of Requirement: Section 891.100(d) prohibits amendment of the amount of the approved capital advance funds prior to initial closing.

Granted by: Brian D. Montgomery, Assistant Secretary for Housing—Federal Housing Commissioner.

Date Granted: August 23, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Alvin Malcolm Senior Residence, Bronx, NY, Project Number: 012-EE331/NY36-S041-001.

Nature of Requirement: Section 891.100(d) prohibits amendment of the amount of the approved capital advance funds prior to initial closing.

Granted by: Brian D. Montgomery, Assistant Secretary for Housing—Federal Housing Commissioner.

Date Granted: August 23, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Benjamin Todd Apartments, Austin, TX, Project Number: 115-HD044/TX59-Q041-003.

Nature of Requirement: Section 891.100(d) prohibits amendment of the amount of the approved capital advance funds prior to initial closing.

Granted by: Brian D. Montgomery, Assistant Secretary for Housing—Federal Housing Commissioner.

Date Granted: August 23, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Chestnut Mainstay II, Madison, IL, Project Number: 072-HD146/IL06-Q051-003.

Nature of Requirement: Section 891.100(d) prohibits amendment of the amount of the approved capital advance funds prior to initial closing.

Granted by: Brian D. Montgomery, Assistant Secretary for Housing—Federal Housing Commissioner.

Date Granted: August 23, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Good Shepherd Housing, Fostoria, OH, Project Number: 042-EE171/OH12-S041-007.

Nature of Requirement: Section 891.100(d) prohibits amendment of the amount of the approved capital advance funds prior to initial closing.

Granted by: Brian D. Montgomery, Assistant Secretary for Housing—Federal Housing Commissioner.

Date Granted: August 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Catherine Booth Apartments, San Antonio, TX, Project Number: 115-EE072/TX59-S041-001.

Nature of Requirement: Section 891.100(d) prohibits amendment of the amount of the approved capital advance funds prior to initial closing.

Granted by: Brian D. Montgomery, Assistant Secretary for Housing—Federal Housing Commissioner.

Date Granted: August 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Park Row Place, Upland Borough, PA, Project Number: 034-EE136/PA26-S041-001.

Nature of Requirement: Section 891.100(d) prohibits amendment of the amount of the approved capital advance funds prior to initial closing.

Granted by: Brian D. Montgomery, Assistant Secretary for Housing—Federal Housing Commissioner.

Date Granted: August 25, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: St. Luke's Senior Housing, New Haven, CT, Project Number: 017-EE086/CT26-S041-003.

Nature of Requirement: Section 891.100(d) prohibits amendment of the amount of the approved capital advance funds prior to initial closing.

Granted by: Brian D. Montgomery, Assistant Secretary for Housing—Federal Housing Commissioner.

Date Granted: August 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Macintosh Estates, Smithfield, RI, Project Number: 016-EE057/RI43-S041-004.

Nature of Requirement: Section 891.100(d) prohibits amendment of the amount of the approved capital advance funds prior to initial closing.

Granted by: Brian D. Montgomery, Assistant Secretary for Housing—Federal Housing Commissioner.

Date Granted: August 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Hattie Jackson II, Washington Court House, OH, Project Number: 043-EE108/OH16-S041-009.

Nature of Requirement: Section 891.100(d) prohibits amendment of the amount of the approved capital advance funds prior to initial closing.

Granted by: Brian D. Montgomery, Assistant Secretary for Housing—Federal Housing Commissioner.

Date Granted: August 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Network Housing '05, Columbus, OH, Project Number: 043-HD050/OH16-Q051-002.

Nature of Requirement: Section 891.100(d) prohibits amendment of the amount of the approved capital advance funds prior to initial closing.

Granted by: Brian D. Montgomery, Assistant Secretary for Housing—Federal Housing Commissioner.

Date Granted: August 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: TBD, Stevens Point, WI, Project Number: 075-HD087/WI39-Q041-006.

Nature of Requirement: Section 891.100(d) prohibits amendment of the amount of the approved capital advance funds prior to initial closing.

Granted by: Brian D. Montgomery, Assistant Secretary for Housing—Federal Housing Commissioner.

Date Granted: August 31, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Magnolia Grove, Jackson, GA, Project Number: 061-EE137/GA06-S041-008.

Nature of Requirement: Section 891.100(d) prohibits amendment of the amount of the approved capital advance funds prior to initial closing.

Granted by: Brian D. Montgomery, Assistant Secretary for Housing—Federal Housing Commissioner.

Date Granted: September 1, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Wildberry Apartments, South Kingston, RI, Project Number: 016-EE052/RI43-S031-003.

Nature of Requirement: Section 891.100(d) prohibits amendment of the amount of the approved capital advance funds prior to initial closing.

Granted by: Brian D. Montgomery, Assistant Secretary for Housing—Federal Housing Commissioner.

Date Granted: September 7, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Clifton Apartments, Springfield, MO, Project Number: 084-HD045/MO16-Q031-002.

Nature of Requirement: Section 891.100(d) prohibits amendment of the amount of the approved capital advance funds prior to initial closing.

Granted by: Brian D. Montgomery, Assistant Secretary for Housing—Federal Housing Commissioner.

Date Granted: September 7, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: New Hope Estates Group Home, Stafford, VA, Project Number: 051-HD124/VA36-Q041-001.

Nature of Requirement: Section 891.100(d) prohibits amendment of the amount of the approved capital advance funds prior to initial closing.

Granted by: Brian D. Montgomery, Assistant Secretary for Housing—Federal Housing Commissioner.

Date Granted: September 7, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Cincinnati VOA Living Center, Cincinnati, OH, Project Number: 046-HD028/OH10-Q041-001.

Nature of Requirement: Section 891.100(d) prohibits amendment of the amount of the approved capital advance funds prior to initial closing.

Granted by: Brian D. Montgomery, Assistant Secretary for Housing—Federal Housing Commissioner.

Date Granted: September 8, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: The Seasons of Hartford, Hartford, CT, Project Number: 017-EE071/CT26-S021-003.

Nature of Requirement: Section 891.100(d) prohibits amendment of the amount of the approved capital advance funds prior to initial closing.

Granted by: Brian D. Montgomery, Assistant Secretary for Housing—Federal Housing Commissioner.

Date Granted: September 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: AHEPA 250 IV, Niantic, CT, Project Number: 017-EE093/CT26-S051-003.

Nature of Requirement: Section 891.100(d) prohibits amendment of the amount of the approved capital advance funds prior to initial closing.

Granted by: Brian D. Montgomery, Assistant Secretary for Housing—Federal Housing Commissioner.

Date Granted: September 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Mantua Presbyterian Apartments, Philadelphia, PA, Project Number: 034-EE144/PA26-S051-004.

Nature of Requirement: Section 891.100(d) prohibits amendment of the amount of the approved capital advance funds prior to initial closing.

Granted by: Brian D. Montgomery, Assistant Secretary for Housing—Federal Housing Commissioner.

Date Granted: September 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Melon SIL, Philadelphia, PA, Project Number: 034-HD084/PA26-Q051-001.

Nature of Requirement: Section 891.100(d) prohibits amendment of the amount of the approved capital advance funds prior to initial closing.

Granted by: Brian D. Montgomery, Assistant Secretary for Housing—Federal Housing Commissioner.

Date Granted: September 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: NJCDC Supportive Housing 2002, Hawthorne, NJ, Project Number: 031-HD135/NJ39-Q021-005.

Nature of Requirement: Section 891.100(d) prohibits amendment of the amount of the approved capital advance funds prior to initial closing.

Granted by: Brian D. Montgomery, Assistant Secretary for Housing—Federal Housing Commissioner.

Date Granted: September 13, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Haven House at St. John of God, North Cape May, NJ, Project Number: 035-EE049/NJ39-S041-003.

Nature of Requirement: Section 891.100(d) prohibits amendment of the amount of the approved capital advance funds prior to initial closing.

Granted by: Brian D. Montgomery, Assistant Secretary for Housing—Federal Housing Commissioner.

Date Granted: September 14, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: St. Martin Villa, St. Martinville, LA, Project Number: 064-HD097/LA48-Q051-004.

Nature of Requirement: Section 891.100(d) prohibits amendment of the amount of the approved capital advance funds prior to initial closing.

Granted by: Brian D. Montgomery, Assistant Secretary for Housing—Federal Housing Commissioner.

Date Granted: September 19, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Echols Place II Apartments, Clovis, NM, Project Number: 116-HD028/NM16-Q051-001.

Nature of Requirement: Section 891.100(d) prohibits amendment of the amount of the approved capital advance funds prior to initial closing.

Granted by: Brian D. Montgomery, Assistant Secretary for Housing—Federal Housing Commissioner.

Date Granted: September 19, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Albany Housing VI, Albany, GA, Project Number: 061-HD098/GA06-Q041-006.

Nature of Requirement: Section 891.100(d) prohibits amendment of the amount of the approved capital advance funds prior to initial closing.

Granted by: Brian D. Montgomery, Assistant Secretary for Housing—Federal Housing Commissioner.

Date Granted: September 19, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: AHEPA 3-II Apartments, Birmingham, AL, Project Number: 062-EE075/AL09-S051-004.

Nature of Requirement: Section 891.100(d) prohibits amendment of the amount of the approved capital advance funds prior to initial closing.

Granted by: Brian D. Montgomery, Assistant Secretary for Housing—Federal Housing Commissioner.

Date Granted: September 21, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Randallstown II, Randallstown, MD, Project Number: 052-EE053/MD06-S041-002.

Nature of Requirement: Section 891.100(d) prohibits amendment of the amount of the approved capital advance funds prior to initial closing.

Granted by: Brian D. Montgomery, Assistant Secretary for Housing—Federal Housing Commissioner.

Date Granted: September 27, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Del-Mor Dwellings (aka Colonel Properties), Bucyrus, OH, Project Number: 042-HD113/OH12-Q031-002.

Nature of Requirement: Section 891.100(d) prohibits amendment of the amount of the approved capital advance funds prior to initial closing.

Granted by: Brian D. Montgomery, Assistant Secretary for Housing—Federal Housing Commissioner.

Date Granted: September 27, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Estancias Presbisterianas del Angel, Hormigueros, PR, Project Number: 056-EE056/RQ46-S031-009.

Nature of Requirement: Section 891.100(d) prohibits amendment of the amount of the approved capital advance funds prior to initial closing.

Granted by: Brian D. Montgomery, Assistant Secretary for Housing—Federal Housing Commissioner.

Date Granted: September 28, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Carty Heights, St. Paul, MN, Project Number: 092-EE109/MN46-S051-003.

Nature of Requirement: Section 891.100(d) prohibits amendment of the amount of the approved capital advance funds prior to initial closing.

Granted by: Brian D. Montgomery, Assistant Secretary for Housing—Federal Housing Commissioner.

Date Granted: September 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Menorah East Apartments, St. Paul, MN, Project Number: 092-EE108/MN46-S051-002.

Nature of Requirement: Section 891.100(d) prohibits amendment of the amount of the approved capital advance funds prior to initial closing.

Granted by: Brian D. Montgomery, Assistant Secretary for Housing—Federal Housing Commissioner.

Date Granted: September 29, 2006.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.130(b).

Project/Activity: TBD Alaska Housing Initiatives, Anchorage, AK, Project Number: 176-HD027/AK06-Q051-001.

Nature of Requirement: Section 891.130(b) prohibits an identity of interest between the sponsor or owner (or borrower, as applicable) and any development team member or between development team members until two years after final closing.

Granted by: Brian D. Montgomery, Assistant Secretary for Housing—Federal Housing Commissioner.

Date Granted: July 6, 2006.

Reason Waived: Land for building this project is extremely scarce in Anchorage and this parcel of land is considered the most suitable site. The waiver allowed the purchase of the land from the parents of a general member of the board provided the purchase price is no more than the appraised value of the site or the last arms-length transaction for the land, plus any holding costs.

Contact: Willie Spearmon, Director, Office of Housing Assistance and Grant Administration, Office of Housing, Department of Housing and Urban Development, 451 Seventh Street, SW., Washington, DC 20410-8000, telephone (202) 708-3000.

• Regulation: 24 CFR 891.130(b).

Project/Activity: Northpoint Park, Springfield, OH, Project Number: 043-EE112/OH16-S051-003.

Nature of Requirement: Section 891.130(b) prohibits an identity of interest between the Sponsor or Owner (or Borrower, as applicable) and any development team member or between development team members until two years after final closing.

Granted by: Brian D. Montgomery, Assistant Secretary for Housing—Federal Housing Commissioner.

Date Granted: August 7, 2006.

Reason Waived: The waiver allowed the project to obtain insurance from an insurance provider where the insurance agent is the sister to the husband of a board member. The waiver was granted because the provider provided insurance coverage that is more affordable, and cost effective than those quoted by competitors in the industry and the sponsor's board member agreed to abstain from voting on all matters concerning insurance coverage in the future.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Point Church Place, Memphis, TN, Project Number: 081-HD018/TN40-Q021-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing-Federal Housing Commissioner.

Date Granted: July 25, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Sunset Gardens Senior Housing, Brooklyn, NY, Project Number: 012-EE321/NY36-S021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 2, 2006.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Haley's Park, Nashville, TN, Project Number: 086-HD033/TN43-Q031-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 3, 2006.

Reason Waived: The project is economically designed and comparable to similar projects in the area, and the sponsor/owner exhausted all efforts to obtain additional funding from other sources. The sponsor/owner needed additional time to secure amendment funds and prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Coop Apartments, Pittsfield, MA, Project Number: 023-HD204/MA06-Q031-012.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 28, 2006.

Reason Waived: The project is economically designed and comparable to similar projects in the area, and the sponsor/owner exhausted all efforts to obtain additional funding from other sources. The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Pear Grove, Houston, TX, Project Number: 114-HD027/TX24-Q031-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 1, 2006.

Reason Waived: The project is economically designed and comparable to similar projects in the area, and the sponsor/owner exhausted all efforts to obtain additional funding from other sources. The sponsor/owner needed additional time to secure amendment funds and prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Tangle Brush Villa, The Woodlands, TX, Project Number: 114-EE106/TX24-S031-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 1, 2006.

Reason Waived: The project is economically designed and comparable to similar projects in the area, and the sponsor/owner exhausted all efforts to obtain additional funding from other sources. The sponsor/owner needed additional time to secure amendment funds and prepare for initially closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Catholic Social Services of Fall River, Fall River, MA, Project Number: 023-EE167/MA06-S031-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 11, 2006.

Reason Waived: The project is economically designed and comparable to similar projects in the area, and the sponsor/owner exhausted all efforts to obtain additional funding from other sources. The sponsor/owner needed additional time to secure amendment funds and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.100(d) and 24 CFR 891.165.

Project/Activity: Miracle Square, Inc., Sumter, SC, Project Number: 054-HD111/SC16-Q041-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 14, 2006.

Reason Waived: The project is economically designed and comparable to similar projects in the area, and the sponsor/owner exhausted all efforts to obtain additional funding from other sources. The sponsor/owner needed additional time to secure amendment funds and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Teton House, El Cajon, CA, Project Number: 129-HD029/CA33-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 7, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Marshall Road, Wellesley, MA, Project Number: 023-HD181/MA06-Q011-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 14, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Waycross II VOA Housing, Inc., Waycross, GA, Project Number: 061-HD087/GA06-Q031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: July 27, 2006.

Reason Waived: The sponsor/owner needed additional time to prepare the firm commitment application.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Camellia Manor, Oglethorpe, GA, Project Number: 061-EE131/GA06-S041-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 22, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: AHEPA 296 Apartments, Pensacola, FL, Project Number: 063-EE032/FL29-S031-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 22, 2006.

Reason Waived: The sponsor/owner needed additional time to prepare for initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Palermo Lakes Apartments, Miami, FL, Project Number: 066-EE100/FL29-S031-012.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 29, 2006.

Reason Waived: The sponsor/owner needed additional time to renegotiate the construction contract, obtain additional financing and to prepare for initial closing.

Contact: Willie Spearmon, Director, Office of Housing Assistance and Grant Administration, Office of Housing, Department of Housing and Urban Development, 451 Seventh Street, SW., Washington, DC 20410-8000, telephone (202) 708-3000.

• Regulation: 24 CFR 891.205.

Project/Activity: John T. Gregorio Towers, Linden, NJ, Project Number: 031-EE065/NJ39-S051-001.

Nature of Requirement: Section 891.205 requires any Section 202 nonprofit entity to have tax-exempt status under section 501(c)(3) or (c)(4) of the Internal Revenue Code.

Granted by: Brian D. Montgomery, Assistant Secretary for Housing—Federal Housing Commissioner.

Date Granted: July 6, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.205.

Project/Activity: Gulfport Manor, Gulfport, MS, Project Number: 065-EE031/MS26-S001-002.

Nature of Requirement: Section 891.205 requires any Section 202 nonprofit entity to have tax-exempt status under section 501(c)(3) or (c)(4) of the Internal Revenue Code.

Granted by: Brian D. Montgomery, Assistant Secretary for Housing—Federal Housing Commissioner.

Date Granted: July 21, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.305.

Project/Activity: Winans Consumer Home, Piscataway, NJ, Project Number: 031-HD141/NJ39-Q041-006.

Nature of Requirement: Section 891.305 requires any Section 811 nonprofit entity to have tax-exempt status under section 501(c)(3) or (c)(4) of the Internal Revenue Code.

Granted by: Brian D. Montgomery, Assistant Secretary for Housing—Federal Housing Commissioner.

Date Granted: August 3, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.305.

Project/Activity: Allies Homes 2004, Evesham Township, NJ, Project Number: 035-HD060/NJ39-Q041-004.

Nature of Requirement: Section 891.305 requires any Section 811 nonprofit entity to have tax-exempt status under section 501(c)(3) or (c)(4) of the Internal Revenue Code.

Granted by: Brian D. Montgomery, Assistant Secretary for Housing—Federal Housing Commissioner.

Date Granted: August 22, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.305.

Project/Activity: OMHS Housing 2004, Berkeley Township, NJ, Project Number: 035-HD058/NJ39-Q041-002.

Nature of Requirement: Section 891.305 requires any Section 811 nonprofit entity to have tax-exempt status under section 501(c)(3) or (c)(4) of the Internal Revenue Code.

Granted by: Brian D. Montgomery, Assistant Secretary for Housing—Federal Housing Commissioner.

Date Granted: September 18, 2006.

Reason Waived: The required tax-exemption ruling from IRS was to be issued, but not in time for the scheduled initial closing of the project.

Contact: Willie Spearmon, Director, Office of Housing Assistance and Grant Administration, Office of Housing, Department of Housing and Urban Development, 451 Seventh Street, SW., Washington, DC 20410-8000, telephone (202) 708-3000.

• Regulation: 24 CFR 891.310(b)(1) and (b)(2).

Project/Activity: Options Supported Housing Project X, Farmingville, NY, Project Number: 012-HD127/NY36-Q051-001.

Nature of Requirement: Section 891.310(b)(1) and (b)(3) requires that all entrances, common areas, units to be occupied by resident staff, and amenities must be readily accessible to and usable by persons with disabilities.

Granted by: Brian D. Montgomery, Assistant Secretary for Housing—Federal Housing Commissioner.

Date Granted: August 23, 2006.

Reason Waived: The project consists of the acquisition and rehabilitation of three single-family homes in order to create group homes for independent living for the chronically mentally ill. The wavier permitted one bedroom and all common areas in one home to be fully accessible. To make all units fully accessible for persons with mobility impairments would make the project financially infeasible.

Contact: Willie Spearmon, Director, Office of Housing Assistance and Grant Administration, Office of Housing, Department of Housing and Urban Development, 451 Seventh Street, SW., Washington, DC 20410-8000, telephone (202) 708-3000.

• Regulation: 24 CFR 891.410(c).

Project/Activity: Weedville, Pennsylvania (St. Joseph's Terrace—Project Number 033-EE080). The Pittsburgh Multifamily Program Center requested waiver of the very-low income requirement for the subject project to alleviate occupancy problems at the project.

Nature of Requirement: HUD regulations at 24 CFR part 891 requires admission of families to projects for the elderly or handicapped that receive reservations under section 202 of the Housing Act of 1959 and housing assistance under section 8 of the U.S. Housing Act of 1937. Section 891.410(c) limits occupancy to very low-income elderly persons (i.e., households composed of one or more persons at least one of whom is 62 years of age at the time of initial occupancy.)

Granted By: Brian Montgomery, Assistant Secretary for Housing—Federal Housing Commissioner.

Date Granted: July 25, 2006.

Reason Waived: The waiver was granted for this project, for a period not to exceed one year from the date of the granting of the waiver, in order to allow flexibility in renting up this Section 202/8 Supportive Housing for the Elderly project. The property has been operating since 1999 but has experienced difficulty maintaining its 100% occupancy level due to a high turnover in elderly housing, despite the management agent's extensive outreach and marketing to attract eligible individuals. The current occupancy level would not support operation of the complex.

Contact: Beverly J. Miller, Director, Office of Asset Management, Office of Housing, Department of Housing and Urban Development, 451 Seventh Street, SW., Room 6160, Washington, DC 20410; telephone (202) 708-3730 (this is not a toll free number).

• Regulation: 24 CFR 891.410(c).

Project/Activity: Oil Trough, AR (White River Manor—Project Number 082-EE107). The Ft. Worth Multifamily Hub has requested waiver of the very low-income and age requirements for this project due to its severe occupancy problems.

Nature of Requirement: HUD regulations at 24 CFR part 891 requires admission of families to projects for the elderly or handicapped that receive reservations under section 202 of the Housing Act of 1959 and housing assistance under section 8 of the U.S. Housing Act of 1937. Section 891.410(c) limits occupancy to Very Low-Income elderly persons (i.e., households composed of one or more persons at least one of whom is 62 years of age at the time of initial occupancy.)

Granted By: Frank L. Davis, General Deputy Assistant Secretary for Housing—Deputy Federal Housing Commissioner.

Date Granted: July 25, 2006.

Reason Waived: The waiver was granted for this project, for a period not to exceed one year from the date of the granting of the waiver, in order to allow the owner flexibility in renting up vacant units at the project. White River Manor is a 12-unit project and has 7 vacant units. The local housing market indicated that there is not a sufficient demand for the very low-income elderly. Providing this waiver allowed the owner/management agent to rent units to near elderly applicants and thereby stabilize the project's current financial status and prevent foreclosure.

Contact: Beverly J. Miller, Director, Office of Asset Management, Office of Housing, Department of Housing and Urban Development, 451 Seventh Street, SW., Room 6160, Washington, DC 20410; telephone (202) 708-3730.

• Regulation: 24 CFR 891.410(c).

Project/Activity: Americus, Georgia (Joy Court Village Apartments—FHA Project No. 061-EE083. The Atlanta Multifamily Hub requested a waiver of the age requirements for the project to assist the project in alleviating its current occupancy problems.

Nature of Requirement: HUD regulations at 24 CFR part 891 requires admission of families to projects for the elderly or handicapped that receive reservations under Section 202 of the Housing Act of 1959 and housing assistance under Section 8 of the U.S. Housing Act of 1937. Section 891.410(c) limits occupancy to Very Low-Income elderly persons (i.e., households composed of one or more persons at least one of whom is 62 years of age at the time of initial occupancy.)

Granted By: Frank L. Davis, General Deputy Assistant Secretary for Housing—Deputy Federal Housing Commissioner.

Date Granted: August 2, 2006.

Reason Waived: Waiver of the very-low income requirement was granted for this project, for a period not to exceed one year from the date of the granting of the waiver, because the project was experiencing difficulty leasing units to elderly. The owner/management agent aggressively marketed the property with local housing authorities, news media, churches and various civic organizations to no avail. The Department granted a one year waiver of the tenant eligibility guidelines and admitted 8 near elderly applicants between the ages of 55 and 62 during the period of May 17, 2006 and May 16, 2006. Due to insufficient demand for very low-income elderly projects, providing waiver of the age requirement allowed the owner to continue to lease to those individuals who failed to meet the statutory age limit of 62 years of age or older. This waiver also allowed the owner/managing agent to stabilize the project's current financial status and prevent foreclosure.

Contact: Beverly J. Miller, Director, Office of Asset Management, Office of Housing, Department of Housing and Urban Development, 451 Seventh Street, SW., Room 6160, Washington, DC 20410; telephone (202) 708-3730 (this is not a toll free number).

• Regulation: 24 CFR 891.410(c).

Project/Activity: White Earth, Minnesota (Biimaadiiziiwin—Project Number 092-EE086). The Minneapolis Multifamily Hub requested waiver of the very low-income requirements and reduction of the age limit from 62 to 55 years of age due to occupancy problems at the project.

Nature of Requirement: HUD regulations at 24 CFR part 891 requires admission of families to projects for the elderly or handicapped that receive reservations under Section 202 of the Housing Act of 1959 and housing assistance under Section 8 of the U.S. Housing Act of 1937. Section 891.410(c) limits occupancy to Very Low-Income elderly persons (i.e., households composed of one or more persons at least one of whom is 62 years of age at the time of initial occupancy.)

Granted By: Frank L. Davis General Deputy Assistant Secretary for Housing—Deputy Federal Housing Commissioner.

Date Granted: August 25, 2006.

Reason Waived: This waiver was granted, for a period not to exceed one year from the date of the granting of the waiver, to permit admission of lower-income (income between 51 and 80 percent of median) elderly applicants when there are no very low-income elderly applicants to fill vacant units. The project is located in White Earth Reservation Band of the Minnesota Chippewa Tribe. As of the date of request for the waiver, there were only 9 occupied units in this 29-unit project. The owner/managing agent was unable to attract very low-income elderly persons. The market analysis indicated that there is insufficient effective demand to fill the complex with very low-income elderly. The owner continued to aggressively market the property with the local housing authorities and news media. Provision of this waiver allowed the property to operate successfully and achieve full occupancy.

Contact: Beverly J. Miller, Director, Office of Asset Management, Office of Housing, Department of Housing and Urban Development, 451 Seventh Street, SW., Room 6160, Washington, DC 20410; telephone (202) 708-3730.

• Regulation: 24 CFR 891.830(b).

Project/Activity: Mill Pond Senior Housing, O'Fallon, MO, Project Number: 085-EE079/MO36-S041-002.

Nature of Requirement: Section 891.830(b) requires that capital advance funds be drawn down only in an approved ratio to other funds, in accordance with a drawdown schedule approved by HUD.

Granted by: Brian D. Montgomery, Assistant Secretary for Housing—Federal Housing Commissioner.

Date Granted: August 11, 2006.

Reason Waived: In order to not delay the construction of this mixed finance project, the waiver permitted the capital advance funds to be drawn down using a different mechanism, as approved by HUD, than a pro rata basis. However, the capital advance funds could not be drawn down any quicker than a pro rata disbursement basis would have permitted.

Contact: Willie Spearmon, Director, Office of Housing Assistance and Grant Administration, Office of Housing, Department of Housing and Urban Development, 451 Seventh Street, SW., Washington, DC 20410-8000, telephone (202) 708-3000.

• Regulation: 24 CFR 891.830(c)(4).

Project/Activity: Mill Pond Senior Housing, O'Fallon, MO, Project Number: 085-EE079/MO36-S041-002.

Nature of Requirement: Section 891.830(c)(4) prohibits the capital advance funds from paying off bridge or construction financing, or repaying or collateralizing bonds.

Granted by: Brian D. Montgomery, Assistant Secretary for Housing—Federal Housing Commissioner.

Date Granted: August 11, 2006.

Reason Waived: The waiver permitted capital advance funds in the mixed finance project to be used to pay off that portion of a bridge or construction financing, or repaying a portion of bonds that strictly relate to capital advance eligible costs. Such costs were required to be documented in the owner's audited cost certification and approved by the program center as capital advance eligible.

Contact: Willie Spearmon, Director, Office of Housing Assistance and Grant Administration, Office of Housing, Department of Housing and Urban Development, 451 Seventh Street, SW., Washington, DC 20410-8000, telephone (202) 708-3000.

III. Regulatory Waivers Granted by the Office of Public and Indian Housing

For further information about the following regulatory waivers, please see the name of the contact person that immediately follows the description of the waiver granted.

• Regulation: 24 CFR 902.30.

Project/Activity: Asherton Housing Authority (TX451), Asherton, TX.

Nature of Requirement: The regulation establishes certain reporting compliance dates. The audited financial statements are required to be submitted to the Real Estate Assessment Center (REAC) no later than 9 months after the housing authority's (HA) fiscal year end (FYE), in accordance with the Single Audit Act and OMB Circular A-133.

Granted By: Orlando J. Cabrera, Assistant Secretary for Public and Indian Housing.

Date Granted: July 19, 2006.

Reason Waived: A waiver request was filed by the City of Laredo HA (TX011) on behalf of the Asherton HA for the removal of a Late Presumptive Failure (LPF) score of zero for FYE June 30, 2005, under the Financial Assessment Subsystem (FASS) indicator. The Asherton HA is under a management agreement with the City of Laredo HA. The Asherton HA did not file its audited financial submission because the HA received less than $500,000 in federal awards for FYE June 30, 2005, and no audit was required. The Office of Management and Budget Circular A-133 exempts non-federal entities from federal audit requirements if they receive less than $500,000 in federal awards. The HA erroneously selected the Unaudited/Non A-133 submission type rather than “Unaudited/No Audit” that generated the LPF score of zero. The waiver grants the invalidation of the HA's unaudited financial submission and the resubmission of the financial information to correct the submission type.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: City of Denham Springs Housing Authority (LA101), Denham Springs, LA.

Nature of Requirement: The regulation establishes certain reporting compliance dates. The audited financial statements are required to be submitted to the Real Estate Assessment Center (REAC) no later than 9 months after the housing authority's (HA) fiscal year end (FYE), in accordance with the Single Audit Act and OMB Circular A-133.

Granted By: Orlando J. Cabrera, Assistant Secretary for Public and Indian Housing.

Date Granted: August 22, 2006.

Reason Waived: The City of Denham Springs HA requested a waiver of the audited financial submission due date of June 30, 2006, for FYE September 30, 2005. The HA received a Late Presumptive Failure (LPF) score of zero under the Financial Assessment Subsystem (FASS) indicator for not submitting timely the audited financial submission as the HA was inundated with people in need of housing following Hurricane Katrina. The HA staff assisted homeless families find housing, conducted certifications, and referred families to food banks, shelters, furniture, etc. Additionally, the auditing firm conducting the HA's audit had to evacuate on a very short notice resulting in records and files being left behind. Consequently, residents were not allowed to return to their property for several months, a period of time crucial for the completion of the audit. The waiver provides the HA an additional thirty days from the date of the waiver approval letter to submit the audited financial information.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: Detroit Housing Commission (MI001), Detroit, MI.

Nature of Requirement: The regulation establishes certain reporting compliance dates. The audited financial statements are required to be submitted to the Real Estate Assessment Center (REAC) no later than 9 months after the housing authority's (HA) fiscal year end (FYE), in accordance with the Single Audit Act and OMB Circular A-133.

Granted By: Orlando J. Cabrera, Assistant Secretary for Public and Indian Housing.

Date Granted: July 31, 2006.

Reason Waived: The Detroit Housing Commission (HA) has requested a waiver extension of 90 days to submit the audited financial information for FYE June 30, 2005. The HA previously requested and was granted a waiver of the March 31, 2006 due date, to June 30, 2006. This waiver grants the HA the additional 90 days to complete and submit the audited financial information because of unanticipated delays with the auditing firm, the complexity of the financial issues including inaccurate records, and insufficient staff capacity.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: City of Newark Housing Authority (NJ002), Newark, NJ.

Nature of Requirement: The regulation establishes certain reporting compliance dates; namely, the unaudited financial statements are required to be submitted within 2 months after the Housing Authority's (HA) Fiscal Year End (FYE), and the audited financial statements are required to be submitted no later than 9 months after the HA's FYE, in accordance with the Single Audit Act and OMB Circular A-133.

Granted By: Orlando J. Cabrera, Assistant Secretary for Public and Indian Housing.

Date Granted: July 5, 2006.

Reason Waived: The City of Newark HA requested a waiver extension of 3 months to the unaudited financial data submission deadline of May 31, 2006, for FYE March 31, 2006. The additional time ensures that the correct roll forward numbers from FY 2005 audit are carried into FY 2006, and because the FY 2005 audit, due to the Real Estate Assessment Center (REAC) on June 30, 2006, had to be reviewed and approved before an accurate FY 2006 unaudited financial data submission could be completed. This waiver grants the HA an extension to August 31, 2006, to submit corrected unaudited financial data.

Contact: David R. Ziaya, Program Manager, NASS, Real Estate Assessment Center, Office of Public and Indian Housing, Department of Housing and Urban Development, 550 12th Street, SW., Suite 100, Washington, DC 20410, telephone (202) 475-8574.

• Regulation: 24 CFR 902.30.

Project/Activity: The New Reidsville Housing Authority (NC098), Reidsville, NC.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Orlando J. Cabrera, Assistant Secretary for Public and Indian Housing.

Date Granted: July 12, 2006.

Reason Waived: The New Reidsville HA's audited financial submission was rejected twice and the HA did not make a third submission because the HA asserted that it was not notified of the second rejection until May 22, 2006. The rejection and the Late Presumptive Failure (LPF) score of zero under the Financial Assessment Subsystem (FASS) indicator resulted from a file that was attached to an incorrect tab. Although the REAC records document that a notification letter for the second submission rejection was sent to the HA on May 4, 2006, the rejection was based on an incidental defect and not on incorrect data. Therefore, the HA was granted a waiver to resubmit its audited financial data for FYE June 30, 2005.

Contact: David R. Ziaya, Program Manager, NASS, Real Estate Assessment Center, Office of Public and Indian Housing, Department of Housing and Urban Development, 550 12th Street, SW., Suite 100, Washington, DC 20410-5000, telephone (202) 475-8574.

• Regulation: 24 CFR 941.606(n)(l)(ii)(B).

Project/Activity: Chicago Housing Authority's (CHA) Fountain View Apartments. Mixed Finance Project Number: IL06-P002-074A.

Nature of Requirement: This regulatory provision requires that if the partner and/or owner entity (or any other entity with an identity of interest with such parties) wants to serve as a general contractor for the project or development, it may award itself the construction contract only if it can demonstrate to HUD's satisfaction that its bid is the lowest submitted in response to a public request for bids.

Granted By: Orlando J. Cabrera, Assistant Secretary for Public and Indian Housing.

Date Granted: July 14, 2006.

Reason Waived: The Chicago Housing Authority (CHA) procured LCDC Safeway Joint Venture Corporation as the master developer for the Fountain View site through a competitive Request for Proposal (RFP). Safeway was identified in the response to the RFP as the intended general contractor. Safeway Construction did not bid to become the general contractor, as specified by this provision of the mixed-finance regulation, but CHA has provided documentation that the construction costs are reasonable and are within HUD's requirements. CHA submitted with the waiver request a certification by Vistara Construction Services (“Vistara”), an independent third-party cost estimator, who reviewed the full plans and the proposed construction costs. In a letter dated May 4, 2006, Vistara had certified that the costs are reasonable for the market area. HUD has reviewed the Rental Term Sheet, the mixed-finance proposal, the project evidentiaries, and related budgets and has determined that the construction costs for this project are reasonable and below the independent cost estimates submitted by CHA. The Vistara construction cost estimate is $7,997,500, while Safeway's total price is $7,348,101, including an estimate of $255,000 for lead-based paint and asbestos removal. This amount is below the Vistara estimate by $649,399. As Safeway's cost was below that of the independent cost estimates, HUD's condition is satisfied.

Contact: Dominique Blom, Deputy Assistant Secretary for the Office of Public Housing Investments, 451 Seventh Street, SW., Room 4130, Washington, DC 20140: telephone (202) 401-8812.

• Regulation: 24 CFR 982.505(c)(3).

Project/Activity: Ypsilanti Housing Commission (YHC), Ypsilanti, MI. The YHC requested a waiver of payment standard (PS) requirements to permit it to implement reduced PSs earlier than required to avoid termination of housing assistance payments (HAP) contracts during calendar year 2006 due to insufficient funding.

Nature of Requirement: Section 982.505(c)(3) of HUD's regulations states that if the amount on the PS schedule is decreased during the term of the HAP contract, the lower PS amount generally must be used to calculate the monthly HAP for the family beginning at the effective date of the family's second regular reexamination following the effective date of the decrease.

Granted By: Orlando J. Cabrera, Assistant Secretary for Public and Indian Housing.

Date Granted: July 25, 2006.

Reason Waived: The waiver was granted because this cost-saving measure would enable the YHC to both manage its Housing Choice Voucher program within allocated budget authority and avoid the termination of HAP contracts due to insufficient funding.

Contact: Alfred C. Jurison, Director, Housing Voucher Management and Operations Division, Office of Public Housing and Voucher Programs, Office of Public and Indian Housing, Department of Housing and Urban Development, 451 Seventh Street, SW., Room 4210, Washington, DC 20410; telephone (202) 708-0477.

• Regulation: 24 CFR 1000.158.

Project/Activity: The Dry Creek Rancheria, Sonoma County, California, provided downpayment assistance from its Indian Housing Block Grant (IHBG) to two low-income families for the purchase of homes. The purchase price of the homes in each of these cases exceeded the published TDC limits set by HUD.

Nature of Requirement: The regulation at 24 CFR 1000.158 states that before awarding a contract for the construction of housing, the recipient must complete a comparison of the cost of developing the affordable housing with the limits provided by the Total Development Cost (TDC) guidelines, and may not, without prior HUD approval, exceed by more than 10 percent the TDC maximum cost for the project.

Granted By: Orlando Cabrera, Assistant Secretary for Public and Indian Housing.

Date Granted: July 18, 2006.

Reason Waived: The Tribe provided adequate documentation to show that HUD's published TDC limits did not adequately reflect the actual market conditions in existence at the time these transactions were made. The Tribe assumed direct control of all aspects of its housing programs. The Tribe adopted housing policies and internal procedures that comply with the requirements of the IHBG program and have provided assurance that its staff is aware of those requirements.

Contact: Deborah Lalancette, Director, Grants Management, Denver Office of Native American Programs, Department of Housing and Urban Development, 1670 Broadway, 23rd Floor, Denver, CO 80202; telephone: (303) 675-1625.

• Regulation: 24 CFR part 5 and 24 CFR Chapter IX.

Project/Activity: The PHAs identified in Table 1, are all located within a presidentially declared disaster area as a result of damages caused by Hurricanes Katrina and/or Rita or Hurricane Wilma, and each PHA notified HUD of the need for one or more regulatory waivers made available to PHAs in Hurricanes Katrina, Rita and Wilma disaster areas by three Federal Register notices. The first notice is Regulatory and Administrative Waivers Granted for Public and Indian Housing Programs to Assist with Recovery and Relief in Hurricane Katrina Disaster Areas, signed September 27, 2005, and published in the Federal Register on October 3, 2005 (70 FR 57716), the second notice is Regulatory and Administrative Waivers Granted for Public and Indian Housing Programs to Assist with Recovery and Relief in Hurricane Rita Disaster Areas; and Additional Administrative Relief for Hurricane Katrina, signed October 25, 2005, and published in the Federal Register on November 1, 2005 (70 FR 66222), and the third notice is Regulatory and Administrative Waivers Granted for Public and Indian Housing Programs To Assist With Recovery and Relief in Hurricane Wilma Disaster Areas, signed on March 7, 2006, and published in the Federal Register on March 13, 2006 (71 FR 12988):

Nature of Requirements: The three Federal Register notices provided for waiver of the following regulations, in 24 CFR part 5 and 24 CFR Chapter IX for those PHAs in the disaster areas that notified HUD through a special waiver request process designed to expedite both the submission of regulatory requests to HUD and HUD's response to the request.

1. 24 CFR 5.216(g)(5) (Disclosure and Verification of Social Security and Employer Identification Numbers);

2. 24 CFR 5.512(c) (Verification of Eligible Immigration Status; Secondary Verification);

3. 24 CFR 5.801(c) and 5.801(d) (Uniform Financial Reporting Standards (UFRS));

4. 24 CFR 902 (Public Housing Assessment System (PHAS));

5. 24 CFR 903.5 (Annual Plan Submission Deadline);

6. 24 CFR 905.10(i) (Capital Fund Formula; Limitation of Replacement Housing Funds to New Development);

7. 24 CFR 941.306 (Maximum Project);

8. 24 CFR 965.302 (Requirement for Energy Audits);

9. 24 CFR 982.54 (Administrative Plan);

10. 24 CFR 982.206 (Waiting List; Opening and Public Notice);

11. 24 CFR 982.401(d) (Housing Quality Standards; Space Requirements);

12. 24 CFR 982.503(b) (Waiver of payment standard; Establishing Payment Standard; Amounts);

13. 24 CFR 984.303 (Contract of Participation; Family Self-Sufficiency (FSS) Program; Extension of Contract) and 24 CFR 984.105 (Minimum Payment Size);

14. 24 CFR part 985 (Section 8 Management Assessment Program (SEMAP)); and

15. 24 CFR 990.145 (Dwelling Units with Approved Vacancies).

16. 24 CFR 1000.156 and 1000.158 (IHBG Moderate Design Requirements for Housing Development).

17. 24 CFR 1000.214 (Indian Housing Plan (IHP) Submission Deadline).

18. 24 CFR 1003.400(c) and Section I.C. of FY 2005 Indian Community Development Block Grants (ICDBG) Program Notice of Funding Availability (NOFA) (Grant Ceilings for ICDBG Imminent Threat Applications).

19. 24 CFR 1003.401 and Section I.C. of FY 2005 ICDBG NOFA (Application Requirements for ICDBG Imminent Threat Funds).

20. 24 CFR 1003.604 (ICDBG Citizen Participation Requirements).

Both Federal Register notices described the regulatory requirement in detail and the period of suspension or alternative compliance date.

Granted By: Roy A. Bernardi, Deputy Secretary by the October 3, 2005 notice and the November 1, 2005 notice, both in the Federal Register. The March 13, 2006 notice was granted by Orlando J. Cabrera, Assistant Secretary for Public and Indian Housing, Public and Indian Housing, published in the Federal Register.

Date Granted: Please refer to Table 1. Table 1 identifies Public Housing Agencies (PHAs) that have requested and were granted the regulatory waivers made available through the three Federal Register notices. The table identity's by number (as listed in the Federal Register notices) the regulatory waivers granted to each housing entity and identifies whether the housing entity was located in a Hurricane Katrina, Hurricane Rita or Hurricane Wilma disaster area.

Reason Waived: The regulations waived in the October 3, 2005, and the November 1, 2005, and the March 13, 2006, Federal Register notices were waived to facilitate the delivery of safe and decent housing under HUD's Public Housing programs to families and individuals that were displaced from their housing as a result of the hurricanes.

Contacts: Reference the items numbers with the items identified in the aforementioned “Nature of Requirements” section for the following contacts:

• Requirements 1, 2 and 8—Nicole Faison, Acting Director, Public Housing Management and Occupancy Division, Office of Public Housing and Voucher Programs, Office of Public and Indian Housing, Department of Housing and Urban Development, 451 Seventh Street, SW., Room 4222, Washington, DC 20410-5000, telephone (202) 708-0744;

• Requirements 3, 4 and 15—Wanda F. Funk, Senior Advisor, Real Estate Assessment Center, Office of Public and Indian Housing, Department of Housing and Urban Development, 550 12th Street, SW., Suite 100, Washington, DC 20410-5000, telephone (202) 475-8736;

• Requirement 5—Merrie Nichols-Dixon, Director, Compliance and Coordination Division, Office of Field Operations, Office of Public and Indian Housing, Department of Housing and Urban Development, 451 Seventh Street, SW., Room 4112, Washington, DC 20410-5000, telephone (202) 708-4016.

• Requirements 6 and 7—Jeffery Riddel, Acting Director, Capital Fund Division, Public Housing Investments, Office of Public and Indian Housing, Department of Housing and Urban Development, 451 Seventh Street, SW., Room 4146, Washington, DC 20410-5000, telephone (202) 401-8812;

• Requirements 9-14—Alfred C. Jurison, Director, Housing Voucher Management and Operations Division, Office of Public Housing and Voucher Programs, Office of Public and Indian Housing, Department of Housing and Urban Development, 451 Seventh Street, SW., Room 4210, Washington, DC 20410-5000, telephone (202) 708-0477;

• Requirements 16-20—Deborah M. Lalancette, Director, Office of Grants Management, Office of Native American Programs, Office of Public and Indian Housing, Department of Housing and Urban Development, 1670 Broadway, Denver, CO 80202, telephone (303) 675-1600.

Table 1
Housing authority code | Housing Authority Name and Hurricane Disaster Area, (K), (R) and (W) indicates whether the Housing Authority was located in the hurricane Katrina, Rita or Wilma disaster area. | Regulatory waivers granted by item No. | Date notification received
LA045 | Arcadia Housing Authority (K) | 4 | 08/28/06
LA046 | Housing Authority of the Town of Vinton (K) | 3,4,9,11,14 & 15 | 07/17/06
MS004 | Housing Authority of the City of Meridian (K) | 14 | 09/18/06
MS086 | Vicksburg Housing Authority (K) | 4 | 07/11/06
TX029 | Mercedes Housing Authority (R) | 6 | 08/03/06

[FR Doc. E6-21868 Filed 12-21-06; 8:45 am]

BILLING CODE 4210-67-P